DEPARTMENT OF HOMELAND SECURITY

Coast Guard

[Docket No. USCG-2011-0662]

Amendment of Marine Safety Manual, Volume III

AGENCY: Coast Guard, DHS.

ACTION: Notice of proposed policy change and request for comments.

SUMMARY: The Coast Guard is considering cancelling its policy concerning the issuance of Merchant Mariner Credentials endorsed as Able Seaman-Mobile Offshore Units. The policy is currently found in Chapter 16 of the Marine Safety Manual, Volume III. The Coast Guard will accept comments from the public on whether to cancel the policy and on any impacts the cancellation may have.

DATES: Comments and related material must either be submitted to our online docket via http://www.regulations.gov on or before October 31, 2011 or reach the Docket Management Facility by that date.

ADDRESSES: You may submit comments identified by docket number USCG-2011-0662 using any one of the following methods:

(1) Federal eRulemaking Portal: http://www.regulations.gov.

(2) Fax: 202-493-2251.

(3) Mail: Docket Management Facility (M-30), U.S. Department of Transportation, West Building Ground Floor, Room W12-140, 1200 New Jersey Avenue, SE., Washington, DC 20590-0001.

(4) Hand delivery: Same as mail address above, between 9 a.m. and 5 p.m., Monday through Friday, except Federal holidays. The telephone number is 202-366-9329.

To avoid duplication, please use only one of these four methods. See the “Public Participation and Request for Comments” portion of the SUPPLEMENTARY INFORMATION section below for instructions on submitting comments.

FOR FURTHER INFORMATION CONTACT: If you have questions about this notice, call or e-mail Luke B. Harden, Mariner Credentialing Program Policy Division (CG-5434), U.S. Coast Guard, telephone 202-372-2357, e-mail CG5434@uscg.mil. If you have questions on viewing material in the docket, call Renee V. Wright, Program Manager, Docket Operations, telephone 202-366-9826.

SUPPLEMENTARY INFORMATION:

Public Participation

You may submit comments and related material regarding whether to cancel the Able Seaman-Mobile Offshore Units (AB-MOU) endorsement. All comments received will be posted, without change, to http://www.regulations.gov and will include any personal information you have provided.

Submitting comments: If you submit a comment, please include the docket number for this notice (USCG-2011-0662) and provide a reason for each suggestion or recommendation. You may submit your comments and material online or by fax, mail or hand delivery, but please use only one of these means. We recommend that you include your name and a mailing address, an e-mail address, or a telephone number in the body of your document so that we can contact you if we have questions regarding your submission.

To submit your comment online, go to http://www.regulations.gov and click on the “submit a comment” box, which will then become highlighted in blue. In the “Document Type” drop down menu, select “Notices” and insert “USCG-2011-0662” in the “Keyword” box. Click “Search,” and then click on the balloon shape in the “Actions” column. If you submit your comments by mail or hand delivery, submit them in an unbound format, no larger than 8½; by 11 inches, suitable for copying and electronic filing. If you submit comments by mail and would like to know that they reached the Facility, please enclose a stamped, self-addressed postcard or envelope.

We will consider all comments and material received during the comment period.

Viewing the comments: To view the comments, go to http://www.regulations.gov and click on the “Read Comments” box, which will then become highlighted in blue. In the “Keyword” box, insert “USCG-2011-0662” and click “Search.” Click the “Open Docket Folder” in the “Actions” column. If you do not have access to the internet, you may view the docket online by visiting the Docket Management Facility in Room W12-140 on the ground floor of the Department of Transportation West Building, 1200 New Jersey Avenue, SE., Washington, DC 20590, between 9 a.m. and 5 p.m., Monday through Friday, except Federal holidays. We have an agreement with the Department of Transportation to use the Docket Management Facility.

Privacy Act: Anyone can search the electronic form of comments received into any of our dockets by the name of the individual submitting the comment (or signing the comment, if submitted on behalf of an association, business, labor union, etc.). You may review a Privacy Act system of records notice regarding our public dockets in the January 17, 2008, issue of the Federal Register (73 FR 3316).

Background and Purpose

Chapter 16 of Volume III of the Marine Safety Manual (MSM), Marine Industry Personnel, COMDTINST M16000.8B, Qualified Ratings for Merchant Mariner's Documents, permits the issuance of an AB-MOU endorsement on a mariner's Merchant Mariner Credential, Merchant Mariner License, or Merchant Mariner Document. (The MSM can be found online at: http://www.uscg.mil/directives/cim/16000-16999/CIM_16000_8B.pdf.) This policy was put in place in order to increase the number of mariners eligible to serve on mobile offshore units.

The Coast Guard is considering whether to discontinue issuing merchant mariner credentials endorsed as AB-MOU. Under the proposed cancellation, mariners currently holding a credential endorsed as AB-MOU would be able to continue to serve under the authority of their existing credential until that credential expires. Upon these mariners' next renewal, the AB-MOU endorsement would be converted to one of the endorsements explicitly authorized by 46 U.S.C. 7306(b) and 46 CFR 12.05-1. As a default, the endorsement would be converted to AB—Limited unless the applicant's training and experience qualify the applicant for AB—Any Waters, Unlimited.

Authority

We issue this notice of cancellation under the authority of 5 U.S.C. 552(a).

Dated: September 16, 2011.
James A. Watson,
Rear Admiral, U.S. Coast Guard, Director, Prevention Policy.

[FR Doc. 2011-25033 Filed 9-28-11; 8:45 am]

BILLING CODE 9110-04-P